DEPARTMENT OF THE INTERIOR

Fish and Wildlife Service

[Docket No. FWS-HQ-NWRS-2012-0092; FXRS 84510900000-134-FF09R20000]

RIN 1018-AY36

Policy on Donations, Fundraising, and Solicitation

AGENCY: Fish and Wildlife Service, Interior.

ACTION: Notice.

SUMMARY: The U.S. Fish and Wildlife Service (Service) announces that it has established a policy that covers Service procedures for accepting, using, and recognizing donations. This donations policy is an extension of the Department of the Interior's guidance on donations, found in the Departmental Manual (DM) at 374 DM 6. The donations policy establishes procedures for reviewing and evaluating potential donors and donations. It lists delegations of authority for accepting donations and the roles and responsibilities of the Service's Donations Senior Manager and employees authorized to accept donations. It provides guidance on soliciting donations, where appropriate, and provides general guidance on fundraising by non-Federal entities on the Service's behalf. It focuses on the ethical considerations of all types of donations, as opposed to our Fish and Wildlife Service Manual (FW) guidance, 342 FW 5, Non-Purchase Acquisition, which covers the acquisition of real property rights by methods other than purchase, including donation.

DATES: This policy is effective as of May 1, 2014.

ADDRESSES: You may obtain copies of this final policy at http://www.fws.gov/policy/manuals. The final policy and comments are available at http://www.regulations.gov at Docket No. FWS-HQ-NWRS-2012-0092. Alternatively, you may request a copy by U.S. mail from USFWS, Division of Realty, 4401 N. Fairfax Drive, Suite 622, Arlington, Virginia 22203 (see FOR FURTHER INFORMATION CONTACT). They are also available for public inspection, by appointment, during normal business hours at the above address.

FOR FURTHER INFORMATION CONTACT: Janet Bruner, 703-358-1713.

SUPPLEMENTARY INFORMATION:

Introduction

We have established a final donations policy, which is available at http://www.fws.gov/policy/manuals. We have incorporated this policy as part 212, chapter 8, of the Fish and Wildlife Service Manual. The purpose of this policy is to establish policy for accepting, using, and recognizing donations. The policy includes procedures for reviewing and evaluating potential donors and donations, as well as guidance on soliciting donations and fundraising.

Background

The Department of the Interior issued “ETHICS AND CONDUCT, Employee Responsibilities and Conduct, Donations” (374 DM 6) in 2007. This guidance requires all Interior bureaus to develop their own policy on donations.

Several authorities allow various types of donations, including real and personal property, services, and money. These include the Fish and Wildlife Coordination Act (16 U.S.C. 661 et seq.), which allows acceptance of funds or lands, pending State approval. A later amendment to the Fish and Wildlife Act of 1956 (16 U.S.C. 742f) allows the Service to accept real and personal property donations. Other authorities cited in this donations policy include the Partnerships for Wildlife Act (16 U.S.C. 3741); Alaska National Interest Lands Conservation Act (16 U.S.C. 3101); Migratory Bird Conservation Act, as amended (16 U.S.C. 715-715r); National Wildlife Refuge System Volunteer and Community Partnership Enhancement Act of 1998, as amended (16 U.S.C. 742f); Great Lakes Fisheries Act of 1956 (16 U.S.C. 932); and the National Wildlife Refuge System Administration Act of 1966 (16 U.S.C. 668dd(b)(2)).

In addition to those broader authorities, individual units of the National Wildlife Refuge System or the National Fish Hatchery System may have specific legislative authority to accept donations. This donations policy is in keeping with statutory requirements as well as with the aforementioned Departmental guidance, 374 DM 6.

Final Policy

We recognize the value of donations, but also the potential problems with accepting them. This policy covers the ethical considerations for donations, fundraising, and solicitation. While donations can be a means to further our mission, not all donations are appropriate. This policy provides consistent procedures for evaluating potential donors and donations to determine if acceptance is appropriate. The policy also helps the reader determine who has authority to accept appropriate donations. That authority depends on the type (real property or non-real property) and the monetary value of the donation.

This policy also covers soliciting donations and fundraising. Those activities are primarily done by Friends groups, which are groups of volunteers who support specific refuges. The donations policy lists the limited circumstances when Service employees may solicit donations. It describes inappropriate fundraising activities and also mentions grant applications and acceptance.

Recognizing donors is very important. This policy also contains information on that, including a template for a thank-you letter.

Summary of Comments and Changes to the Final Policy

On January 15, 2013, we announced the draft policy and requested public comments via a Federal Register notice (78 FR 3023). The comment period was open from January 15, 2013, through February 15, 2013. We received 14 comment letters on the draft policy. The letters included 69 individual comments on the draft policy. The comments were from Federal government agencies, nongovernmental organizations, and individuals. Most of the comments addressed specific elements, while some comments expressed general support, without addressing specific elements. We considered all of the information and recommendations for improvement included in the comments and made appropriate changes to the draft policy. We also made some additions and clarifications to the policy that were not addressed in the public comments, but were discovered through internal briefings and reviews during the policy revision period.

Dated: May 27, 2014.
Stephen Guertin,
Acting Director, U.S. Fish and Wildlife Service.

[FR Doc. 2014-14102 Filed 6-16-14; 8:45 am]

BILLING CODE 4310-55-P